DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before September 20, 2004.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-837751

Applicant: Bureau of Reclamation, Phoenix, Arizona.

Applicant requests an amendment to an existing permit to allow presence/absence surveys for the Yuma clapper rail (Rallus longirostris yumanensis) within Arizona.

Permit No. TE-829996

Applicant: Houston Zoo, Houston, Texas.

Applicant requests an amendment to an existing permit to allow educational display and captive propagation of the following species, at appropriate Houston Zoo facilities: Big Bend gambusia (Gambusia gaigei), Comanche Springs pupfish (Cyprinodon elegans), and Leon Springs pupfish (Cyprinodon bovines).

Permit No. TE-813088

Applicant: Bureau of Reclamation, Albuquerque, New Mexico.

Applicant requests an amendment to an existing permit to allow presence/absence surveys and nest monitoring for the interior least tern (Sterna antillarum) within New Mexico.

Permit No. TE-022190

Applicant: Arizona-Sonora Desert Museum, Tucson, Arizona.

Applicant requests an amendment to an existing permit to allow educational display and captive propagation of the Mount Graham red squirrel (Tamiasciurus hudsonicus grahamensis) at appropriate Arizona-Sonora Desert Museum facilities.

Permit No. TE-091673

Applicant: Madeline Terry, Denver, Colorado.

Applicant requests a new permit for research and recovery purposes to conduct presence/absence surveys for the southwestern willow flycatcher (Empidonax traillii extimus) within Arizona, Colorado, New Mexico, and Utah.

Permit No. TE-091552

Applicant: Zane Homesley, Kyle, Texas.

Application requests a new permit for research and recovery purposes to conduct presence/absence surveys for the following species within Texas: black-capped vireo (Vireo atricapillus), golden-cheeked warbler (Dendroica chrysoparia), southwestern willow flycatcher (Empidonax traillii extimus), and Houston toad (Bufo houstonensis).

Permit No. TE-091844

Applicant: Jeff Howard, Braggs, Oklahoma.

Applicant requests a new permit for research and recovery purposes to conduct presence/absence surveys for the American burying beetle (Nicrophorus americanus) within Oklahoma.

Authority: 16 U.S.C. 1531, et seq.

Dated: August 11, 2004.
Stuart Leon,
Acting Assistant Regional Director, Ecological Services, Region 2, Albuquerque, New Mexico.

[FR Doc. 04-19109 Filed 8-19-04; 8:45 am]

BILLING CODE 4310-55-P